NUCLEAR REGULATORY COMMISSION

[DOCKET NOS. 50-387 AND 50-388]

PPL Susquehanna, LLC; Notice of Correction to the Public Scoping Comment Period for the Environmental Impact Statement for the License Renewal of Susquehanna Steam Electric Station, Units 1 and 2

Notice is hereby given that the U.S. Nuclear Regulatory Commission (NRC or the Commission) has corrected the public scoping comment period for the plant-specific supplement to the “Generic Environmental Impact Statement (GEIS),” NUREG-1437, regarding the renewal of operating licenses NPF-14 and NPF-22 for an additional 20 years of operation at the Susquehanna Steam Electric Station (SSES), Units 1 and 2.

The application for renewal was received on September 13, 2006, pursuant to 10 CFR Part 54. A notice of Receipt and Availability of the license renewal application (LRA), was published in the Federal Register on October 2, 2006 (71 FR 58014). A notice of acceptability for docketing, notice of opportunity for a hearing and notice of intent to prepare an environmental impact statement and conduct scoping process, was published in the Federal Register on November 2, 2006 (71 FR 64566).

The purpose of this notice is to inform the public that the NRC has corrected the end of the comment period on the environmental scope of the SSES license renewal review from December 18, 2006, to January 2, 2007.

Any interested party may submit comments on the environmental scope of the SSES license renewal review for consideration by the NRC staff. To be certain of consideration, comments on the scoping process to the GEIS must be received by January 2, 2007. Comments received after the due date will be considered if it is practical to do so, but the NRC staff is able to assure consideration only for comments received on or before this date. Written comments on the environmental scope of the SSES license renewal review should be sent to the Chief, Rules and Directives Branch, Division of Administrative Services, Office of Administration, Mailstop T-6D59, U.S. Nuclear Regulatory Commission, Washington, DC 20555-0001.

Comments may also be delivered to the NRC, Room T-6D59, Two White Flint North, 11545 Rockville Pike, Rockville, Maryland, from 7:45 a.m. until 4:15 p.m. on Federal workdays. Electronic comments may be sent via the Internet to the NRC at SusquehannaEIS@nrc.gov. All comments received by the Commission, including those made by Federal, State, and local agencies, Indian tribes, or other interested persons, will be made available electronically and accessible from the Agencywide Documents Access and Management System (ADAMS) Public Reading Room on the Internet at http://www.nrc.gov/reading-rm/adams.html. Persons who do not have access to ADAMS, or encounter problems in accessing the documents located in ADAMS, should contact the NRC's Public Document Room reference staff at 1-800-397-4209, or (301) 415-4737, or by e-mail to pdr@nrc.gov.

FOR FURTHER INFORMATION CONTACT: Alicia Mullins, License Renewal and Environmental Impacts Program, Division of Regulatory Improvement Programs, U.S. Nuclear Regulatory Commission, Washington, DC 20555. Ms. Mullins may also be contacted at (301) 415-1224, or by e-mail at axm7@nrc.gov.

Dated at Rockville, Maryland, this 15th day of December 2006.
For the Nuclear Regulatory Commission.
Pao-Tsin Kuo,
Acting Director Division of License Renewal Office of Nuclear Reactor, Regulation.

FR Doc. E6-21807 Filed 12-20-06; 8:45 am]

BILLING CODE 7590-01-P